DEPARTMENT OF TRANSPORTATION

Federal Aviation Administration

Commercial Space Transportation Advisory Committee—Open Meeting; Sunshine Act

AGENCY: Federal Aviation Administration (FAA), DOT.

ACTION: Notice of Commercial Space Transportation Advisory Committee Open Meeting.

SUMMARY: Pursuant to Section 10(a)(2) of the Federal Advisory Committee Act (Pub. L. 92-463, 5 U.S.C. App. 2), notice is hereby given of a meeting of the Commercial Space Transportation Advisory Committee (COMSTAC). The meeting will take place on Wednesday, October 25, 2006, starting at 8 a.m. at the Federal Aviation Administration Headquarters Building, 800 Independence Avenue, SW., Washington, DC, in the Bessie Coleman Conference Center, located on the 2nd Floor. This will be the forty-fourth meeting of the COMSTAC.

The proposed agenda for the meeting will feature information on recipients of the National Aeronautics and Space Administration's Commercial Orbital Transportation Services award; briefings on a study of the Commercial Space Launch Liability Risk-Sharing Regime and the environmental activities in FAA's Office of Commercial Space Transportation (AST); and an AST activities report. An agenda will be posted on the FAA Web site at http://ast.faa.gov/COMSTAC. Meetings of the COMSTAC Working Groups (Technology and Innovation, Reusable Launch Vehicle, Risk Management, and Launch Operations and Support) will be held on Tuesday, October 24, 2006. For specific information concerning the times and locations of the working group meetings, contact the Contact Person listed below.

Individuals who plan to attend and need special assistance, such as sign language interpretation or other reasonable accommodations, should inform the Contact Person listed below in advance of the meeting.

FOR FURTHER INFORMATION CONTACT: Brenda Parker (AST-100), Office of Commercial Space Transportation, 800 Independence Avenue, SW., Room 331, Washington, DC 20591, telephone (202) 267-3674; E-mail brenda.parker@faa.gov.

Issued in Washington, DC, September 12, 2006.
Patricia Grace Smith,
Associate Administrator for Commercial Space Transportation.

[FR Doc. 06-7737 Filed 9-13-06; 3:28 pm]

BILLING CODE 4910-13-M